FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 7, 2008.

A. Federal Reserve Bank of Cleveland (Nadine Wallman, Vice President) 1455 East Sixth Street, Cleveland, Ohio 44101-2566:

1. Jay L. Dunlap, Lincoln, Nebraska, to retain the power to vote shares of, and to acquire additional voting shares of, New Richmond Bancorporation, and thereby indirectly retain the power to vote shares of, and to acquire additional voting shares of RiverHills Bank, both of New Richmond, Ohio.

In connection with this application, Samad Yaltaghian, Rushden, Northants, England, has applied to acquire voting shares of New Richmond Bancorporation, and thereby indirectly acquire voting shares of RiverHills Bank, both of New Richmond, Ohio; and New Richmond Voting Trust, Lincoln, Nebraska, a voting trust to be established by Jay L. Dunlap, Lincoln, Nebraska; Samad Yaltaghian, Rushden, Northants, England; and Gregory P. Neisen, Cincinnati, Ohio, acting in concert, with Jay L. Dunlap as voting trustee, to control voting shares of New Richmond Bancorporation, and thereby indirectly control voting shares of RiverHills Bank, both of New Richmond, Ohio.

B. Federal Reserve Bank of Dallas (W. Arthur Tribble, Vice President) 2200 North Pearl Street, Dallas, Texas 75201-2272:

1. The Vanco Trusts, the Vannie Cook Trusts, and James William Collins, as trustee, all of McAllen, Texas, to acquire an voting shares of Medina Bankshares, Inc., Hondo, Texas, and indirectly acquire voting shares of D'Hanis State Bank, D'Hanis, Texas.

Board of Governors of the Federal Reserve System, July 18, 2008.
Robert deV. Frierson,
Deputy Secretary of the Board.

[FR Doc. E8-16861 Filed 7-22-08; 8:45 am]

BILLING CODE 6210-01-S